NUCLEAR REGULATORY COMMISSION

[NRC-2011-0046]

Qualification of Connection Assemblies for Nuclear Power Plants

AGENCY: Nuclear Regulatory Commission.

ACTION: Regulatory guide; issuance.

SUMMARY: The U.S. Nuclear Regulatory Commission (NRC or the Commission) is issuing a revision to Regulatory Guide (RG) 1.156, “Qualification of Connection Assemblies for Nuclear Power Plants.” This guide describes a method that the NRC considers acceptable for complying with the Commission's regulations on the environmental qualification of connection assemblies and environmental seals in combination with cables or wires as assemblies for service in nuclear power plants. The environmental qualification helps ensure that connection assemblies can perform their safety functions during and after a design-basis event.

ADDRESSES: You can access publicly available documents related to this regulatory guide using the following methods:

• NRC's Public Document Room (PDR): The public may examine and have copied, for a fee, publicly available documents at the NRC's PDR, O1-F21, One White Flint North, 11555 Rockville Pike, Rockville, Maryland 20852.

• NRC's Agencywide Documents Access and Management System (ADAMS): Publicly available documents created or received at the NRC are available online in the NRC Library at http://www.nrc.gov/reading-rm/adams.html. From this page, the public can gain entry into ADAMS, which provides text and image files of the NRC's public documents. If you do not have access to ADAMS or if there are problems in accessing the documents located in ADAMS, contact the NRC's PDR reference staff at 1-800-397-4209, 301-415-4737, or by e-mail to pdr.resource@nrc.gov. The regulatory guide is available electronically under ADAMS Accession Number ML111730464. The regulatory analysis may be found in ADAMS under Accession Number ML111730474.

• Federal Rulemaking Web Site: Public comments and supporting materials related to this regulatory guide can be found at http://www.regulations.gov by searching on Docket ID NRC-2011-0046.

Regulatory guides are not copyrighted, and NRC approval is not required to reproduce them.

FOR FURTHER INFORMATION CONTACT: Satish Aggarwal, U.S. Nuclear Regulatory Commission, Washington, DC 20555-0001, telephone: 301-251-7627 or e-mail: Satish.Aggarwal@nrc.gov.

SUPPLEMENTARY INFORMATION:

I. Introduction

The NRC is issuing a revision to an existing guide in the agency's “Regulatory Guide” series. This series was developed to describe and make available to the public information such as methods that are acceptable to the NRC staff for implementing specific parts of the agency's regulations, techniques that the staff uses in evaluating specific problems or postulated accidents, and data that the staff needs in its review of applications for permits and licenses.

Revision 1 of Regulatory Guide 1.156, “Qualification of Connection Assemblies for Nuclear Power Plants,” was issued with a temporary identification as Draft Regulatory Guide, DG-1254.

This guide provides information that supports Title 10 of the Code of Federal Regulations, part 50, “Domestic Licensing of Production and Utilization Facilities” (10 CFR Part 50), Appendix B, “Quality Assurance Criteria for Nuclear Power Plants and Fuel Reprocessing Plants,” Criterion III, “Design Control,” and 10 CFR 50.49, “Environmental Qualification of Electric Equipment Important to Safety for Nuclear Power Plants.”

II. Further Information

DG-1254 was published in the Federal Register (76 FR 10917) February 28, 2011, for a 60-day public comment period. The public comment period closed on April 27, 2011. Staff's responses to public comments on DG-1254 are available under ML111730478.

Dated at Rockville, Maryland, this 27th day of July 2011.
For the Nuclear Regulatory Commission.
Thomas H. Boyce,
Chief, Regulatory Guide Development Branch, Division of Engineering, Office of Nuclear Regulatory Research.

[FR Doc. 2011-19638 Filed 8-2-11; 8:45 am]

BILLING CODE 7590-01-P